DEPARTMENT OF HEALTH AND HUMAN SERVICES

Office of the Secretary

Statement of Organization, Functions, and Delegations of Authority; Office of the National Coordinator for Health and Information Technology; Correction

AGENCY: Office of the Secretary, HHS.

ACTION: Notice, correction.

SUMMARY: This Notice was previously published in the Federal Register on December 1, 2009, but it contained an error with respect to one of the office names.

FOR FURTHER INFORMATION CONTACT: Marc Weisman, Office of the National Coordinator, Office of the Secretary, 200 Independence Ave., NW., Washington, DC 20201, 202-690-6285.

Part A, Office of the Secretary, Statement of Organization, Functions, and Delegations of Authority for the Department of Health and Human Services, Chapter AR, Office of the National Coordinator for Health Information Technology (ONC), as last amended at 74 FR 62785-62786, dated December 1, 2009, is corrected as follows:

I. Under Section AR.10 Organization, retitle “B. Office of Economic Modeling and Analysis (ARB)” as B. Office of Economic Analysis and Modeling (ARB).”

II. Under Section AR.20 Functions, Chapter B, retitle all references to the “Office of Economic Modeling and Analysis” as the “Office of Economic Analysis and Modeling.”

III. Delegation of Authority. Pending further delegation, directives or orders by the Secretary or by the National Coordinator for Health Information Technology, all delegations and redelegations of authority made to officials and employees of affected organizational components will continue in them or their successors pending further redelegations, provided they are consistent with this reorganization.

(Authority: 44 U.S.C. 3101.)

Dated: July 26, 2010.
Kathleen Sebelius,
Secretary.

[FR Doc. 2010-19999 Filed 8-12-10; 8:45 am]

BILLING CODE 4150-24-P